DEPARTMENT OF THE INTERIOR

Bureau of Land Management

[LLMTC00000.L11100000.DP0000.LXSISGST0000]

Notice of Availability of the Draft Miles City Resource Management Plan and Environmental Impact Statement, MT

AGENCY: Bureau of Land Management, Interior.

ACTION: Notice of Availability.

SUMMARY: In accordance with the National Environmental Policy Act of 1969, as amended, and the Federal Land Policy and Management Act of 1976, as amended, the Bureau of Land Management (BLM) has prepared a draft Resource Management Plan (RMP) revision and draft Environmental Impact Statement (EIS) for the Miles City Field Office and by this notice is announcing the opening of the comment period. The RMP/EIS revision will replace the Powder River and Big Dry RMPs.

DATES: To ensure that comments will be considered, the BLM must receive written comments on the draft RMP/EIS within 90 days following the date the Environmental Protection Agency publishes the notice of the draft RMP/EIS in the Federal Register. The BLM will announce future meetings or hearings and any other public participation activities at least 15 days in advance through public notices, media releases, and/or mailings.

ADDRESSES: You may submit comments related to the Miles City draft RMP/EIS by any of the following methods:

• Email: BLM_MT_MCFO_RMP@blm.gov.

• Fax: 406-233-3650.

• Mail: “MCFO RMP Comments,” 111 Garryowen Road, Miles City, MT 59301.

• Hand-delivery: Miles City Field Office, 111 Garryowen Road, Miles City, Montana.

Whenever possible, please reference the page or section in the draft RMP/EIS to which the comment applies.

Copies of the Miles City draft RMP/EIS are available in the Miles City Field Office at the above address or may be viewed at: http://www.blm.gov/mt/st/en/fo/miles_city_field_office/rmp.html. A limited number of hard copies are available upon request while supplies last. Your name and return mailing address must be included in your written and electronic messages.

FOR FURTHER INFORMATION CONTACT: Mary Bloom, Project Manager, BLM, telephone 406-233-2800; address Miles City Field Office, 111 Garryowen Road, Miles City, MT; email BLM_MT_MCFO_RMP@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Public land management within the planning area is currently guided by the Big Dry RMP and the Powder River RMP, which were completed in 1996 and 1985, respectively.

The intent of the planning process is to analyze and update public land and resource management objectives within the planning area. The planning area includes all of the BLM-administered surface (2,759,155 acres) and mineral estate (11,032,026 acres) managed by the Miles City Field Office in Carter, Custer, Daniels, Dawson, Fallon, Garfield, McCone, Powder River, Prairie, Richland, Roosevelt, Rosebud, Sheridan, Treasure, and Wibaux counties and portions of Big Horn and Valley counties in Montana.

Public scoping in preparation of the draft RMP/EIS was initiated in February 2005. Newsletters to update the public on the draft RMP/EIS were issued from 2006-2010. On December 9, 2011, the BLM issued a Notice of Intent in the Federal Register to plan for the Greater Sage-Grouse, which included the two RMPs being revised—Big Dry and Powder River. Several meetings have been held with counties, cooperating agencies and other collaborators to prepare the draft RMP/EIS. Issues include the management of vegetation communities, mineral development, recreation and access, and special status species, such as the Greater Sage-Grouse. An updated inventory of lands with wilderness characteristics was completed and the results were analyzed in the draft RMP/EIS.

Five alternative management scenarios present a range of management actions to address the issues: Alternative A is existing management (No Action); Alternative B emphasizes soil, water, air, vegetation, wildlife, and cultural resource protection; Alternative C emphasizes local economies; Alternative D encourages development while maintaining existing land uses; and Alternative E is the BLM's Preferred Alternative. The draft RMP/EIS discloses the environmental consequences of each alternative. Identification of a Preferred Alternative does not represent the final agency decision. The BLM encourages public comment on all alternatives and management actions described in the draft RMP/EIS.

Consistent with BLM Washington Office Instruction Memorandum No. 2010-0117, Oil and Gas Leasing Reform-Land Use Planning and Lease Parcel Reviews, the planning area was evaluated to determine if it contained areas meeting the criteria to become proposed master leasing plan (MLP) areas. One area in Carter County has been proposed as an MLP. The proposed Carter MLP is approximately 393,000 acres in size and contains 139,000 acres of BLM-administered surface; 229,000 acres of private land; and 25,000 acres of state land. The BLM administers approximately 282,500 acres of oil and gas estate with 3,678 acres currently leased in the area. The draft RMP/EIS considers and analyzes alternative management for the proposed MLP area.

Pursuant to 43 CFR 1610.7-2(b), this notice announces the public comment period on proposed areas of critical environmental concern (ACECs). The draft RMP/EIS evaluate 26 ACEC nominations. The BLM proposes designation and special management for 21 areas. Five areas that were evaluated are not proposed for ACEC designation, including areas identified as Greater Sage-Grouse protection priority areas. The 21 areas proposed for designation and the resource use limitations which would occur if formally designated are described below. All resource use limitations described below are subject to valid existing rights.

• The Cedar Creek Battlefield (1,022 public surface acres) would be designated an ACEC. This significant battlefield would be managed to enhance and protect cultural resources. Management actions proposed for this area are: Mineral material sales and permits would be closed, oil and gas leasing would be allowed with a no surface occupancy (NSO) stipulation, geophysical exploration would be closed, off-highway vehicle (OHV) use would be limited to existing roads and trails, the area would be managed as a right-of-way (ROW) avoidance area, livestock grazing would be allowed, and management would be per visual resource management (VRM) Class II.

• Flat Creek (547 acres) and Powderville (9,518 acres) areas would also be designated ACECs. Management actions proposed for these significant paleontological areas are: mineral material sales and permits would be closed, oil and gas leasing would be allowed with an NSO stipulation, geophysical exploration would be allowed, OHV use would be limited to existing roads and trails, the area would be managed as a ROW avoidance area, and livestock grazing would be allowed. The Powderville area would be managed per VRM Classes II and III, and the Flat Creek area would be managed per VRM Classes III and IV.

• The Long Medicine Wheel (179 acres) and Powers-Yonkee (40 acres) areas would be designated ACECs. Management actions proposed for these significant cultural resource sites are: Mineral material sales and permits would be closed, oil and gas leasing would be allowed with an NSO stipulation, geophysical exploration would not be allowed, OHV use would be closed, ROWs would be excluded, livestock grazing would be allowed, and management would be per VRM Class II.

• The Walstein area (2,054 acres) would be designated an ACEC. Management actions proposed for this significant cultural and paleontological area are: Mineral material sales and permits would be closed, oil and gas leasing would be allowed with an NSO stipulation, geophysical exploration would not be allowed within the significant cultural resource sites within the ACEC, OHV use would be closed, the area would be managed as a ROW avoidance area, livestock grazing would be allowed, and management would be per VRM Class II.

• The Battle Butte Battlefield ACEC would increase in size from 121 acres to 320 acres and continue to be designated and managed as an ACEC. Management actions proposed for this significant cultural resource site are: Mineral material sales and permits would be closed, oil and gas leasing would be allowed with an NSO stipulation, geophysical exploration would not be allowed, ROWs would be excluded, livestock grazing would be allowed, and management would be per VRM Class II.

• Reynolds Battlefield would increase in size from 324 acres to 922 acres and continue to be designated and managed as an ACEC. Management actions proposed for this significant cultural resource site are: Mineral material sales and permits would be closed, oil and gas leasing would be allowed with an NSO stipulation, geophysical exploration would not be allowed, the area would be managed as a ROW avoidance area, livestock grazing would be allowed, and management would be per VRM Class II.

• The Big Sheep Mountain ACEC (363 acres) would continue to be designated and managed as an ACEC. Management actions proposed for this significant cultural resource site are: Mineral material sales and permits would be closed, oil and gas leasing would be allowed with an NSO stipulation, geophysical exploration would not be allowed, geothermal leasing would be closed, OHV use would be limited to existing roads and trails, the area would be managed as a ROW avoidance area, livestock grazing would be allowed, and management would be per VRM Class II.

• The Hoe ACEC (147 acres) would continue to be designated and managed as an ACEC. Management actions proposed for this significant cultural resource site are: Mineral material sales and permits would be closed, oil and gas leasing would be allowed with an NSO stipulation, geophysical exploration would not be allowed, OHV use would be limited to existing roads and trails, the area would be managed as a ROW avoidance area, geothermal leasing would be closed, 19 acres of the ACEC would be closed to livestock grazing, and management would be per VRM Class II.

• The Jordan Bison Kill ACEC (160 acres) would continue to be managed as an ACEC. Management actions proposed for this significant cultural resource site are: Mineral material sales and permits would be closed, oil and gas leasing would be allowed with an NSO stipulation, geophysical exploration would not be allowed, OHV use would be limited to existing roads and trails, the area would be managed as a ROW avoidance area, geothermal leasing would not be allowed, livestock grazing would be allowed, and management would be per VRM Class II.

• The Powder River Depot ACEC (1,401 acres) would continue to be managed and designated as an ACEC. Management actions proposed for this significant cultural resource site are: Mineral material sales and permits would be closed, oil and gas leasing would be allowed with an NSO stipulation, geophysical exploration would not be allowed, OHV use would be limited to existing roads and trails, the area would be managed as a ROW avoidance area, geothermal leasing would be closed, livestock grazing would be excluded on 219 acres of the ACEC, and management would be per VRM Classes I (Terry Badlands Wilderness Study Area overlap) and II (remainder of the ACEC).

• The Seline ACEC (80 acres) would continue to be designated and managed as an ACEC. Management actions proposed for this significant cultural resource site are: Mineral material sales and permits would be closed, oil and gas leasing would be allowed with an NSO stipulation, geophysical exploration would not be allowed, OHV use would be limited to existing roads and trails, the area would be managed as a ROW avoidance area, geothermal leasing would be closed, livestock grazing would be allowed, and management would be per VRM Class II.

• The Smoky Butte ACEC (80 acres) would continue to be designated and managed as an ACEC. Management actions proposed for this significant geologic area are: Mineral material sales and permits would be closed, oil and gas leasing would be allowed with an NSO stipulation, geophysical exploration would be allowed, OHV use would be closed, the area would be managed as a ROW avoidance area, livestock grazing would be allowed, and management would be per VRM Class III.

• The Finger Buttes ACEC (1,520 acres) would continue to be designated and managed as an ACEC. Management actions proposed for this significant scenic area are: Mineral material sales and permits would be closed, oil and gas leasing would be allowed with an NSO stipulation, geophysical exploration would not be allowed, OHV use would be limited to existing roads and trails, the area would be managed as a ROW avoidance area, geothermal leasing would be closed, and management would be per VRM Class II.

• The Ash Creek Divide (7,921 acres), Bug Creek (3,837 acres), Hell Creek (19,373 acres), and Sand Arroyo (9,052 acres) ACECs would continue to be designated and managed as ACECs. Management actions proposed for these significant paleontological areas are: Mineral material sales and permits would be closed, oil and gas leasing would be allowed with an NSO stipulation, geophysical exploration would be allowed, OHV use would be limited to existing roads and trails, ROWs would be allowed, geothermal leasing would be closed, livestock grazing would be allowed, and management would be per VRM Classes II through IV.

• The Black-footed Ferret Reintroduction ACEC (11,221 acres) would continue to be designated and managed as an ACEC. Management actions proposed for this significant habitat are: Mineral material sales and permits would be closed, oil and gas leasing would be allowed with a controlled surface use stipulation, geophysical exploration would be allowed, OHV use would be limited to existing roads and trails, the area would be managed as a ROW avoidance area, livestock grazing would be allowed, and management would be per VRM Classes I (overlap with Terry Badlands WSA), II, III, and IV.

• The Piping Plover ACEC (15 acres) would continue to be designated and managed as an ACEC. Management actions proposed for this significant habitat are: Mineral material sales and permits would be closed, oil and gas leasing would be allowed with an NSO stipulation, geophysical exploration would not be allowed, OHV use would be limited to existing roads and trails, the area would be managed as a ROW avoidance area, geothermal leasing would not be allowed, livestock grazing would not be allowed from May 1 through July 15 of each year, and management would be per VRM Class II.

• The Yonkee site (40 acres) would be designated an ACEC. This significant cultural resource site would be managed to enhance and protect cultural resources. Management actions proposed for this area are: Mineral material sales and permits would be closed, oil and gas leasing would be allowed with an NSO stipulation, geophysical exploration would not be allowed, OHV use would be closed, ROWs would be excluded, livestock grazing would be allowed, and management would be per VRM Class II.

Following the close of the public review and comment period on this draft RMP/EIS, public comments will be used to prepare the BLM Miles City Proposed RMP and final EIS. The BLM will respond to each substantive comment received during the draft RMP/EIS review period by making appropriate revisions to the document or by explaining why a comment did not warrant a change. After comments have been considered and the draft RMP/EIS has incorporated all potential revisions to develop the proposed RMP and final EIS, a notice of the availability for the Proposed RMP and final EIS will be published in the Federal Register.

Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Jamie E. Connell,
State Director.

[FR Doc. 2013-05294 Filed 3-7-13; 8:45 am]

BILLING CODE 4310-DN-P